DEPARTMENT OF JUSTICE

Antitrust Division

Notice Pursuant to the National Cooperative Research and Production Act of 1993—Silicon Integration Initiative, Inc.

Notice is hereby given that, on August 22, 2025, pursuant to section 6(a) of the National Cooperative Research and Production Act of 1993, 15 U.S.C. 4301 et seq. (“the Act”), Silicon Integration Initiative, Inc. (“Si2”) filed written notifications simultaneously with the Attorney General and the Federal Trade Commission disclosing changes in its membership. The notifications were filed for the purpose of extending the Act's provisions limiting the recovery of antitrust plaintiffs to actual damages under specified circumstances. Specifically, Astrus Inc., Toronto, CANADA; Hangzhou Kilby Technology Co., Ltd., Hangzhou, PEOPLE'S REPUBLIC OF CHINA; Maieutic Semiconductor Private Limited, Bengaluru, REPUBLIC OF INDIA; Pulsaris AI, Inc., Hsinchu City, REPUBLIC OF CHINA (TAIWAN); Sphere Semi (DBA Mered Industries, Inc.), Palo Alto, CA; United Microelectronics Corporation (UMC), Hsinchu, REPUBLIC OF CHINA (TAIWAN); Vinci4D.ai, Inc., Palo Alto, CA; and Xpeedic Technology (Shanghai) Co., Ltd., Shanghai, PEOPLE'S REPUBLIC OF CHINA have been added as parties to this venture.

Also, Sony Semiconductor Solutions Corporation, Atsugi, JAPAN; Quantum Motion Technologies Ltd., London, UNITED KINGDOM; Moore Threads Inc., San Diego, CA; Western Semiconductor, Tempe, AZ; Simple EDA Global Services OÜ, Aaspere, REPUBLIC OF ESTONIA; Indie Semiconductor, Inc., Frankfurt (Oder), FEDERAL REPUBLIC OF GERMANY (Previously Silicon Radar GmbH, Brandenburg, FEDERAL REPUBLIC OF GERMANY); Phoelex LTD, Cambridge, UNITED KINGDOM have withdrawn as parties to this venture.

No other changes have been made in either the membership or planned activity of the group research project. Membership in this group research project remains open, and Si2 intends to file additional written notifications disclosing all changes in membership.

On December 30, 1988, Si2 filed its original notification pursuant to section 6(a) of the Act. The Department of Justice published a notice in the Federal Register pursuant to section 6(b) of the Act on March 13, 1989 (54 FR 10456).

The last notification was filed with the Department on July 24, 2024. A notice was published in the Federal Register pursuant to section 6(b) of the Act on October 11, 2024 (89 FR 82630).

Suzanne Morris,
Deputy Director Civil Enforcement Operations, Antitrust Division.

[FR Doc. 2025-19309 Filed 10-1-25; 8:45 am]

BILLING CODE 4410-11-P